DEPARTMENT OF LABOR

Occupational Safety and Health Administration

[Docket No. ICR-1218-0NEW(2005)-01]

Survey of Automatic External Defibrillator Use in Occupational Settings; Proposed Information Collection Activity; Request for Comment

AGENCY: Occupational Safety and Health Administration (OSHA), Labor.

ACTION: Notice of opportunity for public comment.

SUMMARY: In accordance with the Paperwork Reduction Act, OSHA is soliciting public comment on a survey addressing the usefulness and efficacy of automatic external defibrillators (AEDs) in occupational settings.

DATES: Comments must be submitted by the following dates: Hard copy: Your comments must be submitted (postmarked or received) by July 5, 2005. Facsimile and electronic transmission: Your comments must be received by July 5, 2005.

ADDRESSES: You may submit comments, identified by OSHA Docket No. ICR-1218-0NEW(2005)-01, by any of the following methods: Regular mail, express delivery, hand delivery, and messenger service: Submit your comments and attachments to the OSHA Docket Office, Room N-2625, U.S. Department of Labor, 200 Constitution Avenue, NW., Washington, DC 20210; telephone (202) 693-2350 (OSHA's TTY number is (877) 899-5627). OSHA Docket Office and Department of Labor hours are 8:15 a.m. to 4:45 p.m. e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, comments, submissions, and the ICR are available for inspection and copying at the OSHA Docket Office at the address above. You also may contact Todd Owen at the address below to obtain a copy of the ICR. For additional information on submitting comments, please see the “Public Participation” heading in the SUPPLEMENTARY INFORMATION section of this document.

FOR FURTHER INFORMATION CONTACT: Todd Owen, Directorate of Standards and Guidance, OSHA, Room N-3609, 200 Constitution Avenue, NW., Washington, DC 20210; telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate.

The Office of Management and Budget (OMB) has requested that OSHA conduct a comprehensive study of the usefulness and efficacy of AEDs in occupational settings. OSHA estimates that as many as 8,700 fatal heart attacks and other fatal cardiac events might occur at workplaces annually (Ex. 3-1). Studies have shown that timely access to defibrillation units significantly increases the survival probabilities of victims of such events (Ex. 3-2). Modern technology has permitted the development of AEDs that can be effectively used by first responders with a basic level of training. In addition, there also are AEDs on the market now that require minimal or no training to operate. Moreover, the cost of AEDs has dropped significantly and this trend is anticipated to continue as their use in public,home and workplace setting increases. Based on the costs of AED equipment, associated training, and program management requirements and the potential value of the lives saved, OSHA believes the use of such equipment in establishments is cost effective from a societal perspective.

Despite the social desirability of greater penetration of AED programs in occupational settings, little quantitative information is available about current prevalence of such programs in different industrial sectors. OSHA also lacks information about factors that influenced establishments to install AED equipment and about other factors that deterred establishments from implementing AED programs.

To gather more information about AED use in occupational settings, OSHA will conduct a statistical survey of selected establishments in OSHA-regulated industrial sectors to develop statistically accurate estimates of the current prevalence of AED programs in various industrial sectors. OHSA will also develop estimates of the percentages of establishments that have considered, but not implemented such programs. Additionally, OSHA will collect information on the characteristics of AED programs and establishments (e.g., size, industry, workforce age distribution, etc.) that may correlate with the presence or lack of an AED program. Finally, OSHA plans to supplement the statistical survey with extended case study interviews with selected respondents from the statistical survey. These interviews will provide in-depth, albeit qualitative, information about various factors that influence decisions on whether to implement AED programs, as well as about the circumstances that underlie the cost and effectiveness of such programs.

OSHA has conducted a thorough search and review of existing studies and other literature about AED use. Only limited information is available about AED use in occupational settings, although substantial literature exists addressing AED use in public settings. In addition, OSHA found little direct evidence about AED cost-effectiveness in the workplace. Collection of information sought by OSHA from establishments concerning the use of automatic external defibrillators in occupational settings will include:

1. Profile information, including industry, type of operation, number of employees, age distribution of employees, presence of safety or health professionals on staff, and experience with sudden cardiac events.

2. Characteristics of AED programs in place, including number of units, number of employees trained, type and frequency of training, and percentage of workforce protected by AEDs.

3. Factors influencing decisions whether to invest in AED equipment or implement an AED program, including experience with sudden cardiac events, role of marketing by AED manufacturers, costs of AED equipment, costs of training, cost of maintenance, and liability concerns.

4. Frequency of use of AED units and their effectiveness in cases of employee heart attacks or other sudden cardiac events.

5. In-depth interviews on issues identified with respect to Topics 2, 3, and 4 will be conducted during post-survey case study interviews.

OHSA plans to use this information, first, to identify the occupational settings in which AEDs are most cost-effective. Second, OSHA will use the survey results to identify barriers to expanding AED use and to help design effective outreach programs to encourage establishments to install AED equipment. Without this survey, OSHA will lack information about the current prevalence of AED programs in occupational settings. The Agency will also lack information on the characteristics of establishments with and without AED programs and about the factors that have influenced establishments' decisions whether to implement AED programs. Without this knowledge, OSHA will have difficulty determining the efficacy of different strategies that might be used to encourage the implementation of workplace AED programs such as developing outreach and promotion programs.

The proposed collection of information consists of a two-stage statistical survey of at least 1,000 estblishments in OSHA-regulated industries that have 100 or more employees. In the first stage, OSHA will survey establishments from the universe population to gather baseline profile information and to screen for establishments that either (1) have an AED program in place, or (2) have considered implementing an AED program but have not done so. In the second stage, screened respondents will be asked questions specific to which group their establishment belongs (i.e., currently has an AED program or considered but has not implemented such a program).

As an adjunct to the statistical survey, OSHA plans to conduct as many as 36 in-depth case study interviews with selected volunteers among respondents in both the groups that do and do not have AED programs. These open-ended interviews will permit OSHA to gather detailed qualitative information about key issues pertaining to the implementation, cost, and effectiveness of AED programs and factors deterring implementation of such programs.

II. Proposed Actions

OSHA is requesting OMB approval of the collection of information (paperwork) requirements contained in the Survey of Automatic External Defibrillators. The Agency will summarize the comments submitted in response to this notice and will include this summary in its request to OMB to approve these collections of information requirements.

III. Special Issues for Comments

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collection; and

• Ways to minimize the burden on employers who must comply; for example, by using automated or other technological information collection and transmission techniques.

IV. Public Participation—Submission of Comments on This Notice and Internet Access to Comments and Submissions

You may submit comments and supporting materials in response to this notice by (1) hard copy, (2) FAX transmission (facsimile), or (3) electronically through the OSHA Web page. Because of security-related problems, a significant delay may occur in receiving comments by regular mail. Please contact the OSHA Docket Office at (202) 693-2350 (TTY (877) 889-5627)) for information about security procedures concerning the delivery of submissions by express delivery, hand delivery and courier service.

All comments, submissions, and background documents are available for inspection and copying at the OSHA Docket Office at the above address. Comments and submissions posted on OSHA's Web page are available at http://www.OSHA.gov. Contact the OSHA Docket Office for information about materials not available through the OSHA Web page, and for assistance using the Web page to locate docket submissions.

Electronic copies of this Federal Register notice, as well as other relevant documents, are available on OSHA's Web page. Submissions become part of the public record, therefore, private information such as social security numbers should not be submitted.

Type of Review: New

Title: Survey of Automatic External Defibrillator use in Occupational Settings.

OMB Number: 1218-0NEW-1.

Affected Public: Business or other for-profits.

Number of Respondents: 4,000.

Frequency: One time.

Average Time per Response: Varies from 2 minutes (.03 hour) for a non-response rate to 30 minutes for some establishments to participate in a follow-up case study.

Estimated Total Burden Hours: 551.

Estimated Cost (Operation and Maintenance): $0.

V. Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Signed in Washington, DC, on April 26, 2005.
Jonathan L. Snare,
Acting Assistant Secretary of Labor.

[FR Doc. 05-8824 Filed 5-3-05; 8:45 am]

BILLING CODE 4510-26-M